DEPARTMENT OF COMMERCE

National Oceanic and Atmospheric Administration

RIN 0648-XB170

Mid-Atlantic Fishery Management Council; Public Meeting

AGENCY: National Marine Fisheries Service (NMFS), National Oceanic and Atmospheric Administration (NOAA), Commerce.

ACTION: Notice of a public meeting.

SUMMARY: The Social and Economic Sub-Committee of the Mid-Atlantic Fishery Management Council's (Council) Scientific and Statistical Committee (SSC) will meet with the Council's Atlantic Mackerel, Squid, and Butterfish Advisory Panel (AP). The purpose of the meeting is to develop Fishery Performance Reports for the Atlantic Mackerel, Squid, and Butterfish fisheries in preparation for setting specifications for 2013.

DATES: The meeting will be held on Monday, May 7, 2012, from 8:30 a.m. to 6 p.m.

ADDRESSES: The meeting will be held at the Four Points by Sheraton BWI, 7032 Elm Road, Baltimore, MD 21240; telephone: (410) 859-3300.

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: The purpose of the meeting is to create fishery performance reports by the Council's Atlantic Mackerel, Squid, and Butterfish Advisory Panel (AP). The intent of these reports is to facilitate a venue for structured input from the Advisory Panel members for the Atlantic Mackerel, Squid, and Butterfish specifications process, including recommendations by the Council and its Scientific and Statistical Committee (SSC).

Although non-emergency issues not contained in this notice may come before this group for discussion, those issues may not be the subject of formal action during this meeting.

Special Accommodations:

The meeting is physically accessible to people with disabilities. Requests for sign language interpretation or other auxiliary aids should be directed to M. Jan Saunders at the Mid-Atlantic Council Office, (302) 526-5251, at least 5 days prior to the meeting date.

Dated: April 17, 2012.
Tracey L. Thompson,
Acting Director, Office of Sustainable Fisheries, National Marine Fisheries Service.

[FR Doc. 2012-9540 Filed 4-19-12; 8:45 am]

BILLING CODE 3510-22-P